DEPARTMENT OF HEALTH AND HUMAN SERVICES

National Institutes of Health

National Institute of Allergy and Infectious Diseases; Amended Notice of Meeting

Notice is hereby given of a change in the meeting of the Microbiology and Infectious Diseases B Subcommittee, October 15, 2013, 08:00 a.m. to October 15, 2013, 05:00 p.m., Hilton Garden Inn, 7301 Waverly St., Montgomery Room, Bethesda, MD 20814, which was published in the Federal Register on September 23, 2013, 78 FR 58322.

The October MID-B meeting has been moved from October 15, 2013 to November 21, 2013. This meeting is now a teleconference. The time remains the same. The meeting is closed to the public.

Dated: October 29, 2013.
David Clary,
Program Analyst, Office of Federal Advisory Committee Policy.

[FR Doc. 2013-26304 Filed 11-1-13; 8:45 am]

BILLING CODE 4140-01-P